NUCLEAR REGULATORY COMMISSION

[Docket No. 40-8964; NRC-2012-0214]

Power Resources Inc.; Smith Ranch Highland

AGENCY: Nuclear Regulatory Commission.

ACTION: License renewal; issuance.

SUMMARY: The U.S. Nuclear Regulatory Commission (NRC) is issuing a renewed license to Power Resources, Inc. (PRI), doing business as Cameco Resources, for its Smith Ranch Highland project, materials license SUA-1548. This facility is located in Converse County, Wyoming and has satellite facilities located in Johnson, Campbell, Natrona, and Freemont Counties, Wyoming. The license authorizes PRI to possess uranium source and byproduct material at Smith Ranch Highland and its associated satellite facilities. In addition, the license authorizes PRI to operate its facilities as proposed in its license renewal application, as amended, and as prescribed in the license. The renewed license expires on September 26, 2028.

DATES: The license referenced in this document is available on September 26, 2018.

ADDRESSES: Please refer to Docket ID NRC-2012-0214 when contacting the NRC about the availability of information regarding this document. You may obtain publicly-available information related to this document using any of the following methods:

• Federal Rulemaking website: Go to http://www.regulations.gov and search for Docket ID NRC-2012-0214. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. In addition, for the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Douglas Mandeville, Office of Nuclear Material Safety and Safeguards, U.S. Nuclear Regulatory Commission, Washington, DC 20555-0001, telephone: 301-415-0724; email: Douglas.Mandeville@nrc.gov.

SUPPLEMENTARY INFORMATION:

I. Discussion

Based upon the application dated August 12, 2010 (ADAMS Package Accession No. ML102360313), as supplemented on February 1, 2012 (ADAMS Accession No. ML12234A537 and ML12234A539), February 16, 2012 (ADAMS Accession No. ML121590502), November 18, 2014 (ADAMS Accession No. ML14353A323), December 9, 2014 (ADAMS Accession No. ML15040A602); April 10, 2015 (ADAMS Accession No. ML15133A397); April 21, 2015 (ADAMS Accession No. ML16063A418); March 7, 2018 (ADAMS Accession No. ML18130A032), July 30, 2018 (ADAMS Accession No. ML18239A084), August 16, 2018 (ADAMS Accession No. ML18229A227 and ML18229A235), the NRC has issued a renewed license (ADAMS Accession No. ML18222A515) to PRI. The renewed license authorizes PRI to possess uranium source and byproduct material at Smith Ranch Highland and its associated satellite facilities. In addition, the license authorizes PRI to operate its facilities as proposed in its license renewal application, as amended, and as prescribed in its amended license. The renewed license will expire on September 26, 2028.

The licensee's application for a renewed license complies with the standards and requirements of the Atomic Energy Act of 1954, as amended (the Act), and the NRC's rules and regulations. The NRC has made appropriate findings as required by the Act, part 20 of title 10 of the Code of Federal Regulations (10 CFR), and 10 CFR part 40, and sets forth those findings in the renewed license. The agency afforded an opportunity for a hearing in the “Notice of Opportunity for a Hearing” published in the Federal Register on September 19, 2012 (77 FR 58181). The NRC received no request for a hearing or petition for leave to intervene following the notice.

The NRC staff prepared a safety evaluation report (ADAMS Accession No. ML18193A540) for the renewal of the license and concluded, based on that evaluation, that PRI will continue to meet the regulations in the Act, 10 CFR part 20, and 10 CFR part 40. The NRC staff also prepared an environmental assessment (ADAMS Accession No. ML18257A071) and finding of no significant impact for the renewal of this license, which were published in the Federal Register on September 25, 2018 (83 FR 48461). The NRC staff concluded that renewal of this license will not have a significant impact on the quality of the human environment.

II. Availability of Documents

The following table includes the ADAMS accession numbers for the documents referenced in this notice. For additional information on accessing ADAMS, see the ADDRESSES section of this document.

Document | ADAMS accession No.
License Renewal Application (LRA), August 12, 2010 | ML102360313
LRA Revision, February 1, 2012 | ML12234A537
LRA Revision, February 1, 2012 | ML12234A539
LRA Revision, February 16, 2012 | ML121590502
LRA Revision, November 18, 2014 | ML14353A323
LRA Revision, December 9, 2014 | ML15040A602
LRA Revision, April 10, 2015 | ML15133A397
LRA Revision, April 21, 2015 | ML16063A418
LRA Revision, March 7, 2018 | ML18130A032
LRA Revision, July 30, 2018 | ML18239A084
LRA Revision, August 16, 2018 | ML18229A227
LRA Revision, August 16, 2018 | ML18229A235
Final Environmental Assessment for the Renewal of the U.S. Nuclear Regulatory Commission License No. SUA-1548, issued September 2018 | ML18257A071
NRC Safety Evaluation Report, September 2018 | ML18193A540
Source Materials License SUA-1548, September 26, 2018 | ML18222A515

Dated at Rockville, Maryland, this 27th day of September 2018.
For the Nuclear Regulatory Commission.
Andrea Kock,
Deputy Director, Division of Decommissioning, Uranium Recovery and Waste Programs, Office of Nuclear Material Safety and Safeguards.

[FR Doc. 2018-21429 Filed 10-1-18; 8:45 am]

BILLING CODE 7590-01-P